DEPARTMENT OF COMMERCE

International Trade Administration

The President's Export Council: Meeting of the President's Export Council

AGENCY: International Trade Administration, U.S. Department of Commerce.

ACTION: Notice of an open meeting.

SUMMARY: The President's Export Council (PEC) will hold a full Council meeting to discuss topics related to export expansion. The meeting will include discussion of trade priorities and initiatives, PEC subcommittee activity, and proposed letters of recommendation to the President. The PEC was established on December 20, 1973, and reconstituted May 4, 1979, to advise the President on matters relating to U.S. trade. It was most recently renewed by Executive Order 13316.

Date: January 18, 2007.

Time: 10 a.m. (EST).

Location: U.S. Department of Commerce, Room 4832, 1401 Constitution Avenue, NW., Washington, DC 20230. Because of building security, all non-government attendees must pre-register. Please RSVP to the PEC Executive Secretariat no later than January 12, 2007, to J. Marc Chittum, President's Export Council, Room 4043, 1401 Constitution Avenue, NW., Washington, DC 20230, telephone (202) 482-1124, or e-mail Marc.Chittum@mail.doc.gov.

This program will be physically accessible to people with disabilities. Seating is limited and will be on a first come, first served basis. Requests for sign language interpretation, other auxiliary aids, or pre-registration, should be submitted no later than January 12, 2007, to J. Marc Chittum, President's Export Council, Room 4043, 1401 Constitution Avenue, NW., Washington, DC 20230, telephone (202) 482-1124, or e-mail Marc.Chittum@mail.doc.gov.

FOR FURTHER INFORMATION CONTACT: The President's Export Council Executive Secretariat, Room 4043, Washington, DC 20230 (phone: 202-482-1124), or visit the PEC Web site, http://www.trade.gov/pec.

Dated: December 19, 2006.
J. Marc Chittum,
Staff Director and Executive Secretary, President's Export Council.

[FR Doc. 06-9848 Filed 12-20-06; 10:35 am]

BILLING CODE 3510-DR-P